DEPARTMENT OF COMMERCE

International Trade Administration

[A-570-095]

Aluminum Wire Cable From China: Postponement of Preliminary Determination of Antidumping Duty Investigation

AGENCY: Enforcement and Compliance, International Trade Administration, Department of Commerce.

DATES: Applicable March 19, 2019.

FOR FURTHER INFORMATION CONTACT: Suzanne Rothman, AD/CVD Operations, Office VII, Enforcement and Compliance, International Trade Administration, U.S. Department of Commerce, 1401 Constitution Avenue NW, Washington, DC 20230; telephone: (202) 482-3851.

SUPPLEMENTARY INFORMATION:

Background

On October 11, 2018, the Department of Commerce (Commerce) initiated a less-than-fair-value (LTFV) investigation of aluminum wire cable (AWC) from China.¹ Commerce exercised its discretion to toll all deadlines affected by the partial federal government closure from December 22, 2018, through the resumption of operations on January 28, 2019.² The revised deadline for the preliminary determination is now April 9, 2019.

¹ See Aluminum Wire and Cable From the People's Republic of China: Initiation of Less-Than-Fair-Value Investigation, 83 FR 52811 (October 18, 2018).

² See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Postponement of Preliminary Determination

Section 733(b)(1)(A) of the Tariff Act of 1930, as amended (the Act), and 19 CFR 351.205(b)(1) require Commerce to issue the preliminary determination in an AD investigation no later than 140 days after the date on which Commerce initiated the investigation. However, section 733(c)(1) of the Act permits Commerce to postpone the preliminary determination until no later than 190 days after the date on which Commerce initiated the investigation if: (A) The petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.⁴

³ The petitioners are Encore Wire Corporation and Southwire Company, LLC.

⁴ See 19 CFR 351.205(e).

The petitioners submitted a timely request on February 15, 2019, that we postpone the preliminary determination in this LTFV investigation.⁵ The petitioners stated that a postponement is warranted to provide Commerce and all parties sufficient time to develop the record in this investigation, and the current April 9, 2019 deadline does not provide adequate time for Commerce to review questionnaires, receive responses, and follow up with supplemental questionnaires.

⁵ See Letter from the petitioners, “Aluminum Wire and Cable from China: Petitioner's Request for Postponement of the Preliminary Determination,” dated February 15, 2019.

For the reasons stated above, and because there are no compelling reasons to deny the request, Commerce, in accordance with section 733(c)(1)(A) of the Act, is postponing the due date for the preliminary AD determination to no later than 190 days after the day on which the investigation was initiated. As a result of this postponement, the deadline for completion of the preliminary determination is now May 29, 2019. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: March 14, 2019.
Gary Taverman,
Deputy Assistant Secretary for Antidumping and Countervailing Duty Operations, performing the non-exclusive functions and duties of the Assistant Secretary for Enforcement and Compliance.

[FR Doc. 2019-05146 Filed 3-18-19; 8:45 am]

BILLING CODE 3510-DS-P